DEPARTMENT OF COMMERCE

International Trade Administration

[A-557-819]

Prestressed Concrete Steel Wire Strand From Malaysia: Preliminary Results of Antidumping Duty Administrative Review, 2020-2022

AGENCY: Enforcement and Compliance, International Trade Administration, Department of Commerce.

SUMMARY: The U.S. Department of Commerce (Commerce) preliminarily determines that prestressed concrete steel wire strand (PC strand) from Malaysia was not sold in the United States at prices below normal value. The period of review (POR) is November 19, 2020, through May 31, 2022. Interested parties are invited to comment on these preliminary results.

DATES: Applicable July 7, 2023.

FOR FURTHER INFORMATION CONTACT: Miranda Bourdeau or Samuel Frost, AD/CVD Operations, Office V, Enforcement and Compliance, International Trade Administration, U.S. Department of Commerce, 1401 Constitution Avenue NW, Washington, DC 20230; telephone: (202) 482-2021 or (202) 482-8180, respectively.

SUPPLEMENTARY INFORMATION:

Background

On June 4, 2021, Commerce published in the Federal Register an antidumping duty order on PC strand from Malaysia.¹ On June 3, 2022, we published in the Federal Register a notice of opportunity to request an administrative review of the Order.² On August 9, 2022, based on timely requests for an administrative review, Commerce initiated an administrative review with respect to four companies.³ On August 26, 2022, Commerce selected Kiswire Sdn. Bhd. (Kiswire) and Wei Dat Steel Wire Sdn. Bhd. (Wei Dat) as mandatory respondents for individual examination.⁴

¹ See Prestressed Concrete Steel Wire Strand from Indonesia, Italy, Malaysia, South Africa, Spain, Tunisia, and Ukraine: Antidumping Duty Orders, 86 FR 29998 (June 4, 2021) (Order).

² See Antidumping and Countervailing Duty Order, Finding, or Suspended Investigation; Opportunity to Request Administrative Review and Join Annual Inquiry Service List, 87 FR 33706 (June 3, 2022).

³ See Initiation of Antidumping and Countervailing Duty Administrative Reviews, 87 FR 48459 (August 9, 2022) (Initiation Notice). Although there are five entities listed in the Initiation Notice, one of these entities (i.e., Kiswire Sdn. Bhd. (Kota Kiswire)) is part of another exporter/producer under review. Thus, Commerce only considers four of these entities to be companies covered by this administrative review. For further details, see Memorandum, “Decision Memorandum for the Preliminary Results of the Antidumping Duty Administrative Review of Prestressed Concrete Steel Wire Strand from Malaysia; 2020-2022,” dated concurrently with, and hereby adopted by, this notice (Preliminary Decision Memorandum).

⁴ See Memorandum, “Respondent Selection,” dated August 26, 2022; see also Preliminary Decision Memorandum at 2.

On February 17, 2023, Commerce extended the time limit for completing the preliminary results of this review until June 30, 2023.⁵ For a complete description of the events between the initiation of this review and these preliminary results, see the Preliminary Decision Memorandum

⁵ See Memorandum, “Extension of Deadline for Preliminary Results of Antidumping Duty Administrative Review; 2021-2022,” dated February 17, 2023.

Scope of the Order

The merchandise covered by the scope of this Order is prestressed concrete steel wire strand. A complete description of the scope of the Order is in the Preliminary Decision Memorandum.⁶

⁶ See the Preliminary Decision Memorandum at “Scope of the Order.”

Methodology

Commerce is conducting this review in accordance with section 751(a) of the Tariff Act of 1930, as amended (the Act). We calculated export price in accordance with section 772(a) of the Act. Normal value is calculated in accordance with section 773 of the Act. For a full description of the methodology underlying these preliminary results, see the Preliminary Decision Memorandum. See the appendix to this notice for a complete list of topics discussed in the Preliminary Decision Memorandum. The Preliminary Decision Memorandum is a public document and is made available to the public via Enforcement and Compliance's Antidumping and Countervailing Duty Centralized Electronic Service System (ACCESS). ACCESS is available to registered users at https://access.trade.gov. In addition, a complete version of the Preliminary Decision Memorandum is available at https://access.trade.gov/public/FRNoticesListLayout.aspx.

Rate for Non-Examined Companies

The Act and Commerce's regulations do not address the establishment of a rate to be applied to companies not selected for examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted-average dumping margins established for exporters and producers individually investigated, excluding any zero and de minimis margins, and any margins determined entirely {on the basis of facts available}.”

Where the dumping margin for individually examined respondents are all zero, de minimis, or based entirely on facts available, section 735(c)(5)(B) of the Act provides that Commerce may use “any reasonable method to establish the estimated all-others rate for exporters and producers not individually investigated, including averaging the estimated weighted average dumping margins determined for the exporters and producers individually investigated.”

In this review, Commerce preliminarily determines that the estimated weighted-average dumping margins for both Kiswire and Wei Dat are zero percent. Therefore, in accordance with section 735(c)(5)(B) of the Act, we are preliminarily assigning Southern Steel Sdn. Bhd. and Southern PC Steel Sdn. Bhd., the two companies not selected for individual examination, a rate of zero percent, because we calculated rates of zero percent for both mandatory respondents.

Preliminary Results of the Review

Commerce preliminarily determines that the following estimated weighted-average dumping margins exist during the period November 19, 2020, through May 31, 2022:

Exporter/producer | Estimated weighted-average dumping margin (percent)
Kiswire Sdn. Bhd | 0.00
Wei Dat Steel Wire Sdn. Bhd | 0.00
Review-Specific Rate Applicable to the Following Non-Examined Companies
Southern Steel Sdn. Bhd | 0.00
Southern PC Steel Sdn. Bhd | 0.00

Verification

As provided in section 782(i)(3) of the Act, Commerce intends to verify certain information reported by Kiswire prior to issuing its final results.

Disclosure and Public Comment

Commerce intends to disclose to interested parties the calculations performed for these preliminary results within five days of the date of publication of this notice in accordance with 19 CFR 351.224(b). Pursuant to 19 CFR 351.309(c), interested parties may submit case briefs containing issues pertaining to Kiswire to Commerce no later than seven days after the date on which the last verification report is issued in this administrative review. Interested parties may submit case briefs containing issues pertaining to Wei Dat to Commerce no later than 30 days after the publication of this notice. Rebuttal briefs, limited to issues raised in the case briefs, may be filed no later than seven days after the date for filing the applicable case briefs.⁷ Commerce modified certain of its requirements for servicing documents containing business proprietary information until further notice.⁸ Parties who submit case briefs or rebuttal briefs in this proceeding are encouraged to submit with each argument: (1) a statement of the issue; (2) a brief summary of the argument; and (3) a table of authorities.⁹ Note that Commerce has temporarily modified certain portions of its requirements for serving documents containing business proprietary information, until further notice.¹⁰

⁷ See 19 CFR 351.309(d).

⁸ See Temporary Rule Modifying AD/CVD Service Requirements Due to COVID-19; Extension Effective Period, 85 FR 41363 (July 10, 2020) (Temporary Rule).

⁹ See 19 CFR 351.309(c) and (d); see also 19 CFR 351.303 (for general filing requirements).

¹⁰ See Temporary Rule.

Pursuant to 19 CFR 351.310(c), interested parties who wish to request a hearing, limited to issues raised in the case and rebuttal briefs, must submit a written request to the Assistant Secretary for Enforcement and Compliance, U.S. Department of Commerce, filed electronically via ACCESS within 30 days of the date of publication of this notice. Requests should contain: (1) the party's name, address, and telephone number; (2) the number of participants; and (3) a list of the issues to be discussed. An electronically-filed hearing request must be received successfully in its entirety by ACCESS by 5:00 p.m. Eastern Time on the established deadline.

Commerce intends to issue the final results of this administrative review, including the results of its analysis of issues raised in the case briefs, no later than 120 days after the date of publication of this notice, pursuant to section 751(a)(3)(A) of the Act, unless otherwise extended.

Assessment Rates

Upon issuance of the final results of this administrative review, Commerce shall determine, and U.S. Customs and Border Protection (CBP) shall assess, antidumping duties on all appropriate entries covered by this review.¹¹ If a respondent's weighted-average dumping margin is not zero or de minimis (i.e., less than 0.5 percent) in the final results of this review, we will calculate importer-specific assessment rates based on the ratio of the total amount of dumping calculated for the importer's examined sales to the total entered value of those same sales in accordance with 19 CFR 351.212(b)(1). We intend to instruct CBP to assess antidumping duties on all appropriate entries covered by this review when the importer-specific assessment rate calculated in the final results of this review is not zero or de minimis. Where an importer-specific assessment rate is zero or de minimis in the final results of this review, or where the cash deposit rate is zero or de minimis, we intend to instruct CBP to liquidate the appropriate entries without regard to antidumping duties in accordance with 19 CFR 351.106(c)(2). If Commerce calculates margins above de minimis in the final results of this review, we intend to instruct CBP to take into account the “provisional measures deposit cap,” in accordance with 19 CFR 351.212(d). For the companies which were not selected for individual review, we will assign an assessment rate based on the review-specific average rate, calculated as noted in the “Preliminary Results of Review” section above. The final results of this review shall be the basis for the assessment of antidumping duties on entries of merchandise covered by this review and for future deposits of estimated duties, where applicable.¹²

¹¹ See 19 CFR 351.212(b)(1).

¹² See section 751(a)(2)(C) of the Act.

In accordance with Commerce's “automatic assessment” practice, for entries of subject merchandise during the POR produced by Kiswire or Wei Dat for which these companies did not know that the merchandise was destined for the United States, we will instruct CBP to liquidate those entries at the all-others rate established in the original less-than-fair-value (LTFV) investigation (i.e., 5.13 percent),¹³ if there is no rate for the intermediate company(ies) involved in the transaction.¹⁴

¹³ See Order, 86 FR at 30000.

¹⁴ For a full description of this practice, see Antidumping and Countervailing Duty Proceedings: Assessment of Antidumping Duties, 68 FR 23954 (May 6, 2003).

We intend to issue instructions to CBP no earlier than 35 days after the publication date of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of the notice of final results of this administrative review for all shipments of the subject merchandise entered, or withdrawn from warehouse, for consumption on or after the date of publication, as provided by section 751(a)(2)(C) of the Act: (1) the cash deposit rate for the companies listed in the final results of this review will be equal to the weighted-average dumping margin established in the final results of this administrative review; (2) if the exporter is not a firm covered in this review, or the original LTFV investigation, but the producer is, then the cash deposit rate will be the rate established for the most recently-completed segment of this proceeding for the producer of the merchandise; (3) the cash deposit rate for all other producers or exporters will continue to be 5.13 percent, the all-others rate established in the LTFV investigation.¹⁵ The cash deposit requirements, when imposed, shall remain in effect until further notice.

¹⁵ See Order, 86 FR at 30000.

Notification to Importers

This notice serves as a preliminary reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification to Interested Parties

Commerce is issuing and publishing these results in accordance with sections 751(a)(1) and 777(i)(1) of the Act and 19 CFR 351.221(b)(4).

Dated: June 30, 2023.
Lisa W. Wang,
Assistant Secretary for Enforcement and Compliance.

Appendix

List of Topics Discussed in the Preliminary Decision Memorandum

I. Summary

II. Background

III. Scope of the Order

IV. Discussion of the Methodology

V. Currency Conversion

VI. Recommendation

[FR Doc. 2023-14431 Filed 7-6-23; 8:45 am]

BILLING CODE 3510-DS-P